DEPARTMENT OF TRANSPORTATION

Office of The Secretary

Application of Menagerie Enterprises, Inc. d/b/a Monarch Air for Commuter Air Carrier Authority

AGENCY: Department of Transportation

ACTION: Notice of Order to Show Cause (Order 2015-6-1) Docket DOT-OST-2014-0192

SUMMARY: The Department of Transportation is directing all interested persons to show cause why it should not issue an order finding Menagerie Enterprises, Inc. d/b/a Monarch Air, fit, willing, and able, and awarding it commuter air carrier authorization.

DATES: Persons wishing to file objections should do so no later than June 10, 2015.

ADDRESSES: Objections and answers to objections should be filed in Dockets DOT-OST-2014-0192 and addressed to the U.S. Department of Transportation, Docket Operations, 1200 New Jersey Avenue SE., West Building Ground Floor, M-30, Room W12-140, Washington, DC and should be served upon the parties listed in Attachment A to the order.

FOR FURTHER INFORMATION CONTACT: Shabu Thomas, Air Carrier Fitness Division, (X-56, Office W86-469), U.S. Department of Transportation, 1200 New Jersey Avenue SE., Washington, DC 20590, (202) 366-9721.

Dated: June 3, 2015.
Susan L. Kurland,
Assistant Secretary for Aviation and International Affairs.

[FR Doc. 2015-14033 Filed 6-8-15; 8:45 am]

BILLING CODE 4910-9X-P